DEPARTMENT OF ENERGY

Federal Energy Regulatory Commission

[Docket No. RP00-260-002]

Texas Gas Transmission Corporation; Notice of Compliance Filing

October 30, 2002.

Take notice that on October 25, 2002, Texas Gas Transmission Corporation (Texas Gas) tendered for filing as part of its FERC Gas Tariff, First Revised Volume No. 1, the tariff sheets listed on Appendix B to the filing, to become effective on August 1, 2002.

Texas Gas states that this filing is being submitted in compliance with paragraph 10 of the Commission Letter Order dated October 10, 2002 in Docket Nos. RP00-260-000 and RP00-260-010 (101 FERC ¶ 61,031). The Letter Order accepted an uncontested Settlement. By this filing, Texas Gas implements the provisions of the approved Settlement according to its terms.

Texas Gas states that copies of the revised tariff sheets are being mailed to all parties on the official service list, to Texas Gas's jurisdictional customers and to interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at ferconlineSupport@ferc.gov or toll-free at (866) 208-3676, or for TTY, contact (202) 502-8659. The Commission strongly encourages electronic filings. See, 18 CFR 385.2001(a)(1)(iii) and the instructions on the Commission's web site under the “e-Filing” link.

Linwood A. Watson, Jr.,
Deputy Secretary.

[FR Doc. 02-28172 Filed 11-4-02; 8:45 am]

BILLING CODE 6717-01-P